ENVIRONMENTAL PROTECTION AGENCY

40 CFR Part 141

[FRL9911-60-OW]

Notice of Public Meeting and Webinar: Revisions to the Unregulated Contaminant Monitoring Rule (UCMR 4) for Public Water Systems

AGENCY: Environmental Protection Agency (EPA).

ACTION: Notice of public meeting.

SUMMARY: The U.S. Environmental Protection Agency (EPA) Office of Ground Water and Drinking Water, Standards and Risk Management Division's Technical Support Center (TSC) announces a public meeting and webinar to discuss the approach to the fourth Unregulated Contaminant Monitoring Rule (UCMR 4) for public drinking water systems. EPA will present information concerning the status of the agency's efforts in the areas of analyte selection, analytical methods, sampling design, determination of minimum reporting levels and other possible revisions relative to the current rule.

DATES: The public meeting and webinar will be held on Wednesday, June 25, 2014, from 9:00 a.m. to 4:30 p.m., Eastern Time. Persons wishing to attend the meeting in-person or on-line via the webinar must register by June 18, 2014, as described in the SUPPLEMENTARY INFORMATION section.

ADDRESSES: The public meeting will be held at The Cadmus Group, Inc., third floor conference room located at 1555 Wilson Blvd. Suite 300, Arlington, VA 22209. All attendees must show government-issued photo identification (e.g., a driver's license) when signing in. This meeting will also be simultaneously broadcast as a webinar, available through the Internet.

FOR FURTHER INFORMATION CONTACT: Members of the public who wish to receive further information about the meeting and webinar or have questions about this notice should contact Brenda Parris or Melissa Simic, Technical Support Center, Standards and Risk Management Division, Office of Ground Water and Drinking Water (MS 140), Environmental Protection Agency, 26 West Martin Luther King Drive, Cincinnati, OH 45268; telephone number: (513) 569-7961 or (513) 569-7864; email address: parris.brenda@epa.gov or simic.melissa@epa.gov.

SUPPLEMENTARY INFORMATION:

I. General Information

A. How may I participate in this meeting?

Persons wishing to attend the meeting in-person or online via the webinar must register in advance no later than 5:00 p.m., Eastern Time on June 18, 2014, by sending an email to: UCMRWebinar@cadmusgroup.com. The agenda for the public meeting and webinar will include time for public involvement. To ensure adequate time for public involvement, individuals or organizations interested in making a statement should mention their interest when they register. All presentation materials should be emailed to UCMRWebinar@cadmusgroup.com by June 18, 2014, so that the information can be incorporated into the webinar. We ask that only one person present the statement on behalf of a group or organization, and that the statement be limited to ten minutes. Any additional comments or written statements from attendees will be taken if time permits or can be sent to UCMRWebinar@cadmusgroup.com after the public meeting and webinar. The number of seats and webinar connections available for the meeting is limited and will be available on a first-come, first-served basis.

B. How can I get a copy of the meeting and webinar materials?

The meeting materials will be sent by email to the registered attendees prior to the public meeting and webinar; copies will also be provided for attendees at the meeting. Information about registration and participation in the meeting and webinar can be found on the EPA's Unregulated Contaminant Monitoring Program Meetings and Materials Web page: http://water.epa.gov/lawsregs/rulesregs/sdwa/ucmr/calendar.cfm.

Special Accommodations: Individuals with disabilities who wish to attend the meeting in person can request special accommodations by contacting UCMRWebinar@cadmusgroup.com no later than June 18, 2014.

II. Background

The Safe Drinking Water Act (SDWA) requires the EPA to promulgate rules establishing criteria for a monitoring program for unregulated contaminants in drinking water. Monitoring varies based on system size, source water, and contaminants likely to be found. SDWA also specifies that for systems serving 10,000 persons or fewer, only a representative sample of systems must monitor. Per SDWA, EPA is required to issue, every five years, a list of not more than 30 unregulated contaminants to be monitored by public water systems. The third and most recent rule (UCMR 3) was published on May 2, 2012. The fourth (UCMR 4) is scheduled to be published by December 2016.

Dated: May 20, 2014.
Peter Grevatt,
Director, Office of Ground Water and Drinking Water.

[FR Doc. 2014-12467 Filed 5-28-14; 8:45 am]

BILLING CODE 6560-50-P